DEPARTMENT OF HEALTH AND HUMAN SERVICES

Administration for Children and Families

Office of Management and Budget (OMB) Expedited Review and Public Comment: Revisions to Recordkeeping To Mitigate the Spread of COVID-19 in Head Start (OMB #: 0970-0583)

AGENCY: Office of Head Start; Administration for Children and Families; Department of Health and Human Services.

ACTION: Request for public comments.

SUMMARY: The Office of Head Start, Administration for Children and Families (ACF), U.S. Department of Health and Human Services, is requesting expedited review from OMB and inviting public comments on revisions to the recordkeeping requirements under Recordkeeping to Mitigate the Spread of COVID-19 in Head Start (OMB #: 0970-0583). A Final Rule requires grant recipients to update their program policies and procedures to include an evidence-based COVID-19 mitigation policy developed in consultation with their Health Services Advisory Committee.

DATES: Comments due within 60 days of publication. In compliance with the requirements of the Paperwork Reduction Act of 1995, ACF is soliciting public comment on the specific aspects of the information collection described in this notice.

ADDRESSES: Copies of the proposed collection of information can be obtained and comments may be submitted by emailing infocollection@acf.hhs.gov. Identify all requests by the title of the information collection: Recordkeeping to Mitigate the Spread of COVID-19 in Head Start (OMB #: 0970-0583).

SUPPLEMENTARY INFORMATION:

Description: The requirement that grant recipients establish a COVID-19 mitigation policy in their program policies and procedures will go into effect 60 days following the publication of the Final Rule. The use of normal clearance procedures will not allow for this recordkeeping requirement to be approved prior to the effective date of the final rule. Therefore, ACF is requesting that OMB grant a 180-day approval for this request under procedures for expedited processing. A request for review under normal procedures will be submitted within 180 days of the approval for this request. Only the burden related to the new recordkeeping requirement is displayed below. See OMB number 0970-0583 for additional information about existing recordkeeping requirements. This request under normal procedures will include an extension for all record keeping requirements under this OMB number.

Respondents: Head Start Grant recipients.

Annual Burden Estimates
Instrument | Total number of respondents | Responses per respondent | Average burden hours per response | Annual burden hours
Grant Recipient Updating Program Policies and Procedures | 1,604 | 1 | 8 | 12,832

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication. Comments will be considered and any necessary updates to materials made prior to, and responses provided in, the submission to OMB that will follow this public comment period.

Authority: 88 FR 993.

John M. Sweet Jr.,
ACF/OPRE Certifying Officer.

[FR Doc. 2023-00429 Filed 1-11-23; 8:45 am]

BILLING CODE 4184-40-P